DEPARTMENT OF COMMERCE

National Oceanic and Atmospheric Administration

Proposed Information Collection; Comment Request; Steller Sea Lion Protection Economic Survey

AGENCY: National Oceanic and Atmospheric Administration (NOAA); Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 16, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Dan Lew, (206) 526-4252 or Dan.Lew@noaa.gov.

SUPPLEMENTARY INFORMATION:

I. Abstract

The National Marine Fisheries Service (NMFS) plans to conduct a survey with the objective of measuring the preferences that U.S. residents have toward protecting the Steller sea lion (Eumetopias jubatus), which is a listed species under the Endangered Species Act of 1973 (16 U.S.C. 35). NMFS is charged with protecting this species and has identified numerous potential protection options, and begun implementing selected options, to this end (68 FR 204). Since different management options are available to protect Steller sea lions, it is important to understand the public's attitudes toward the variety of potential impacts on Steller sea lions, Alaskan fisheries and fishing communities, and the nation. This information is currently not available, yet is crucial to ensure the efficient management of Alaskan fisheries and protection of Steller sea lions.

II. Method of Collection

Data will be collected primarily through a mail survey of a random sample of U.S. households. Additional data will be collected in telephone interviews with individuals who do not respond to the mail survey.

III. Data

OMB Number: None.

Form Number: None.

Type of Review: Regular submission.

Affected Public: Individuals or households.

Estimated Number of Respondents: 2,400 by mail, 2,000 by telephone.

Estimated Time Per Response: 30 minutes per mail respondent, 6 minutes per telephone respondent.

Estimated Total Annual Burden Hours: 1,400.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 10, 2006.
Gwellnar Banks,
Management Analyst, Office of the Chief Information Officer.

[FR Doc. E6-13386 Filed 8-15-06; 8:45 am]

BILLING CODE 3510-22-P